DEPARTMENT OF TRANSPORTATION

Federal Transit Administration

Over-the-Road Bus Accessibility Program Announcement of Project Selection

AGENCY: Federal Transit Administration, DOT.

ACTION: Notice.

SUMMARY: The U.S. Department of Transportation (DOT) Federal Transit Administration (FTA) announces the selection of projects to be funded under Fiscal Year 2002 appropriations for the Over-the-road Bus (OTRB) Accessibility Program, authorized by section 3038 of the Transportation Equity Act for the 21st Century (TEA-21). The OTRB Accessibility Program makes funds available to private operators of over-the-road buses to help finance the incremental capital and training costs of complying with DOT's over-the-road bus accessibility rule, published in a Federal Register notice on September 24, 1998.

FOR FURTHER INFORMATION CONTACT: The appropriate FTA Regional Administrator for grant-specific issues; or Sue Masselink, Office of Program Management, 202-366-2053, for general information about the OTRB Program.

SUPPLEMENTARY INFORMATION: A total of $6.9 million was appropriated for the program in FY 2002 which together with $204,100 in prior year unobligated funds made a total of $7.1 million available for allocation: $5.3 million for intercity fixed-route providers and $1.8 million for all other providers, such as commuter, charter, and tour operators. A total of 91 applicants requested $18.4 million: $11.5 million was requested by intercity fixed-route providers, and $6.9 million was requested by all other providers. Project selections were made on a discretionary basis, based on each applicant's responsiveness to statutory project selection criteria, fleet size, and level of funding received in previous years. Because of the high demand for the funds available, most applicants received less funding than they requested, but all qualified applicants received some funding. The selected projects will provide funding for the incremental cost of adding lifts to 149 new vehicles, retrofitting 68 vehicles, and $476,279 for training. Each of the following 73 awardees, as well as the 18 applicants who were not selected for funding, will receive a letter that explains how funding decisions were made.

Operator | Award Amounts: Intercity fixed-route | Award Amounts: Other | Award Amounts: Total
Region I:
Arrow Line, Inc., East Hartford, CT |  | $50,000 | 50,000
Bonanza Bus Lines, Providence, RI | $68,080 |  | 68,080
Brunswick Transportation Company, South Portland, ME |  | 42,700 | 42,700
Brush Hill Transportation Company, Randolph, MA | 28,915 |  | 28,915
Gulbankian Bus Lines, Southborough, MA |  | 11,709 | 11,709
McGinn Bus Company, Plymouth, MA | 28,915 |  | 28,915
Mini Coach of Boston, Inc., Chelsea, MA |  | 38,000 | 38,000
Morgan Coach Lines, Inc., South Deerfield, MA |  | 39,895 | 39,895
Pawtuxet Valley Bus Lines, West Warwick, RI |  | 7,200 | 7,200
Peter Pan Bus Lines, Springfield, MA | 113,600 |  | 113,600
Vermont Transit Company, Inc., Burlington, VT | 99,454 |  | 99,454
Region II:
Academy Express, LLC, Hoboken, NJ | 18,000 | 26,936 | 44,936
Adirondack Trailways, Hurley, NY | 130,000 |  | 130,000
Blue Bird Coach Lines, Inc., N. Tonawanda, NY | 40,770 | 42,120 | 82,890
DeCamp Bus Lines, Montclair, NJ |  | 90,000 | 90,000
Hampton Jitney, Inc., Southampton, NY |  | 25,575 | 25,575
Hudson Transit Lines, Inc., Mahwah, NJ | 108,000 |  | 108,000
Suburban Transit Corp., New Brunswick, NJ |  | 18,000 | 18,000
Sunrise Coach Lines, Inc., Greenport, NY |  | 32,010 | 32,010
Syracuse and Oswego Motor Lines, East Syracuse, NY |  | 39,600 | 39,600
Utica Rome Bus Company, Clinton, NY |  | 39,150 | 39,150
Region III:
Butler Motor Transit, Butler, PA |  | 44,100 | 44,100
Capitol Bus Company, Harrisburg, PA | 5,000 |  | 5,000
Central Cab Company, Waynesburg, PA |  | 43,200 | 43,200
Elite Coach, Ephrata, PA |  | 40,950 | 40,950
Eyre Bus Service, Inc., Glenelg, MD |  | 102,857 | 102,857
First Priority Tours, Inc., District Heights, MD |  | 34,306 | 34,306
James River Bus Lines, Richmond, VA |  | 38,520 | 38,520
Lenzer Tour and Travel, Sewickley, PA |  | 42,750 | 42,750
Martz Trailways, Wilkes-Barre, PA | 199,579 |  | 199,579
Mountaineer Coach, Beaver, WV |  | 19,000 | 19,000
Thomas Tours, Beltsville, MD |  | 20,646 | 20,646
Trans-Bridge Lines, Bethlehem, PA | 51,053 |  | 51,053
Region IV:
Southern Coach, Durham, North Carolina |  | 84,090 | 84,090
Carolina Trailways, Raleigh, North Carolina | 99,454 |  | 99,454
First Class Coach Co., St. Petersburg, Florida | 107,200 |  | 107,200
Good Time Tours, Pensacola, Florida |  | 26,902 | 26,902
Capital Trailways, Montgomery, Alabama | 69,300 |  | 69,300
Colonial Trailways, Mobile, Alabama |  | 60,750 | 60,750
Americoach Tours, Memphis, Tennessee |  | 46,250 | 46,250
Region V:
Jefferson Lines, Minneapolis, Minnesota | 143,188 |  | 143,188
Rockford Coach Lines, LLC, Rockford, Illinois | 66,303 |  | 66,303
Gad-About Tours, Columbiana, Ohio |  | 36,800 | 36,800
Ready Bus Lines, La Crescent, Minnesota |  | 29,700 | 29,700
VanGalder Bus, Janesville, Wisconsin | 9,700 |  | 9,700
Seniors Unlimited, Pontiac, Michigan |  | 22,190 | 22,190
Wisconsin Coach, Waukesha, Wisconsin | 81,400 |  | 81,400
Croswell Bus Lines, Inc., Williamsburg, Ohio |  | 27,692 | 27,692
Peoria Charter Coach Co., Peoria, Illinois |  | 19,950 | 19,950
Robinson Coach, Evanston, Illinois |  | 56,500 | 56,500
Region VI:
Valley Transit, Harlington, Texas | 66,000 |  | 66,000
Kerrville Bus Co., San Antonio, Texas | 94,140 | 36,000 | 130,140
TNM&O, Lubbock, Texas | 66,303 |  | 66,303
All Aboard America, Carlsbad, New Mexico |  | 41,741 | 41,741
Franklin Charter, Inc., Tulsa, Oklahoma |  | 29,000 | 29,000
Gulf Coast Transit, Houston, Texas |  | 112,000 | 112,000
El Expresso, Houston, Texas | 85,500 | 38,250 | 123,750
Fun Time Tours, Corpus Christi, Texas |  | 38,934 | 38,934
Greyhound, Dallas, Texas | 3,025,082 |  | 3,025,082
Region VII:
St. Louis Executive Coach, Inc., St. Louis, Missouri |  | 32,800 | 32,800
Burlington Trailways, West Burlington, Iowa | 57,025 |  | 57,025
Region VIII: No Applications
Region IX:
Royal Safari, Orange, California | 28,885 |  | 28,885
Santa Barbara Air Bus, Goleta, California | 51,868 |  | 51,868
Roberts Hawaii, Honolulu, Hawaii |  | 126,000 | 126,000
Marin Airporter, San Rafael, California | 80,600 |  | 80,600
KT Contract Services, Inc., North Las Vegas, Nevada | 76,950 | 6,000 | 82,950
Quest, San Luis Obispo, California | 32,612 |  | 32,612
Grosvenor Bus Lines, San Francisco, California |  | 36,000 | 36,000
Storer Coach, Modesto, California |  | 62,500 | 62,500
Orange Belt Stages, Visalia, California | 51,520 |  | 51,520
Region X:
Wikkiser International Co., Inc., Ferndale, Washington | 40,000 |  | 40,000
Wheatland Express, Pullman, WA | 28,800 | 27,000 | 55,800
Total | 5,313,946 | 1,825,523 | 7,139,469

Eligible project costs may be incurred by awardees prior to final grant approval. The incremental capital cost for adding wheelchair lift equipment to any new vehicles delivered on or after June 9, 1998, the effective date of TEA-21, is eligible for funding under the OTRB Accessibility Program.

Applicants selected for funding may be contacted by FTA regional offices if additional information is needed before grants are made. The grant applications will be sent to the U.S. Department of Labor (DOL) for certification under labor protection requirements pursuant to 49 U.S.C. 5333(b). After referring applications to affected employees represented by a labor organization, DOL will issue a certification to FTA. Terms and conditions of the certification will be incorporated in the FTA grant agreement under the new guidelines replacing those in 29 CFR Part 215. Please see Amendment to Section 5333(b), Guidelines to Carry Out New Programs Authorized by the Transportation Equity Act for the 21st Century (TEA-21); Final Rule (64 FR 40990, July 28, 1999).

Issued on October 22, 2002.
Jennifer L. Dorn,
Administrator.

[FR Doc. 02-27374 Filed 10-25-02; 8:45 am]

BILLING CODE 4910-57-P